INTERNATIONAL TRADE COMMISSION

Public Availability of FY 2019 Service Contracts Inventory, Analysis and Planned Analysis of FY 2020 Service Contracts Inventory

AGENCY: U.S. International Trade Commission.

ACTION: Notice.

SUMMARY: In accordance with Section 743 of Division C of the Consolidated Appropriations Act of 2010, the U.S. International Trade Commission is publishing this notice to advise the public of the availability of the FY 2019 Service Contract Inventory and the Planned Analysis of FY 2020 Service Contracts Inventory.

FOR FURTHER INFORMATION CONTACT: Questions regarding the service contract inventory should be directed to Debra Bridge, U.S. International Trade Commission, Office of Procurement, 500 E Street SW, Washington, DC 20436; debra.bridge@usitc.gov; (202) 205-2004.

SUPPLEMENTARY INFORMATION: The FY 2019 inventory analysis provides information on specific service contract actions that were analyzed. The 2019 inventory provides information on service contract actions over $25,000, which were made in FY 2019. The inventory information is organized by function to show how contracted resources are distributed throughout the agency. The inventory has been developed in accordance with guidance issued on November 5, 2010 and December 19, 2011, by the Office of Management and Budget's Office of Federal Procurement Policy (OFPP). OFPP's guidance is available at https://www.whitehouse.gov/sites/whitehouse.gov/files/omb/procurement/memo/service-contract-inventory-guidance.pdf.

The FY 2020 planned analysis of service contracts inventory provides information on which functional areas will be reviewed by the agency. The U.S. International Trade Commission has posted its FY 2019 inventory and FY 2020 planned analysis at the following link: https://www.usitc.gov/offices/procurement.

The link to the Government-wide service contract inventory is https://www.acquisition.gov/service-contract-inventory.

The Commission's FY2020 service contract inventory data is included in the government-wide inventory and may be filtered by agency.

Issued: July 19, 2022.
Katherine Hiner,
Acting Secretary to the Commission.

[FR Doc. 2022-15794 Filed 7-27-22; 8:45 am]

BILLING CODE 7020-02-P